DEPARTMENT OF ENERGY

Federal Energy Regulatory Commission

Combined Notice of Filings #2

Take notice that the Commission received the following electric rate filings:

Docket Numbers: ER10-2172-007; ER10-2172-008; ER10-2179-009; ER10-2179-011; ER11-2016-002; ER11-2016-003; ER10-2184-007; ER10-2184-008; ER10-2183-004; ER10-2183-005; ER10-1048-004; ER10-1048-005; ER10-2176-008; ER10-2176-009; ER10-2192-007; ER10-2192-008; ER11-2056-001; ER11-2056-002; ER10-2178-008; ER10-2174-007; ER10-2174-008; ER11-2014-004; ER11-2014-005; ER11-2013-005; ER11-2013-004; ER10-3308-006; ER10-3308-007; ER10-1017-003; ER10-1017-004; ER10-1020-003; ER10-1020-004; ER10-1145-003; ER10-1145-004; ER10-1144-002; ER10-1144-003; ER10-1078-003; ER10-1078-004; ER10-1079-003; ER10-1079-004; ER10-1080-003; ER10-1080-004; ER11-2010-004; ER11-2010-005; ER10-1081-003; ER10-1081-004; ER10-2180-007; ER10-2180-008; ER11-2011-003; ER11-2011-004; ER11-2009-003; ER11-2009-004; ER11-3989-002; ER11-3989-003; ER10-1734-004; ER10-1734-005; ER10-2181-009; ER10-2181-011; ER10-1143-003; ER10-1143-004; ER10-2182-009; ER10-2182-011; ER11-2007-002; ER11-2007-003; ER12-1223-002; ER12-1223-003; ER11-2005-004; ER11-2005-005; ER10-2178-007.

Applicants: Constellation Energy Commodities Group, Inc., R.E. Ginna Nuclear Power Plant, LLC, PECO Energy Company, Baltimore Gas and Electric Company, Wind Capital Holdings, LLC, CR Clearing, LLC, Exelon New England Power Marketing, LP, Exelon Framingham, LLC, Exelon New Boston, LLC, Exelon West Medway, LLC, Exelon Wyman, LLC, Exelon Generation Company, LLC, Exelon Energy Company, Calvert Cliffs Nuclear Power Plant LLC, CER Generation, LLC, Commonwealth Edison Company, Constellation NewEnergy, Inc., CER Generation II, LLC, Constellation Energy Commodities Group Maine, LLC, Handsome Lake Energy, LLC, Nine Mile Point Nuclear Station, LLC, Constellation Mystic Power, LLC, Cassia Gulch Wind Park, LLC, Michigan Wind 1, LLC, Harvest Windfarm, LLC, Exelon Wind 4, LLC, Criterion Power Partners, LLC, Cow Branch Wind Power, L.L.C., Michigan Wind 2, LLC, MXenergy Electric Inc., Wildcat Wind, LLC, Tuana Springs Energy, LLC, Constellation Paper Source Generation, Inc.

Description: Second Supplement to Notification of Change in Status of Baltimore Gas & Electric Company, et al.

Filed Date: 8/1/12.

Accession Number: 20120801-5137.

Comments Due: 5 p.m. ET 10/2/12.

Docket Numbers: ER12-2217-004.

Applicants: Power Dave Fund LLC.

Description: Compliance Filing 091212 to be effective 9/12/2012.

Filed Date: 9/12/12.

Accession Number: 20120912-5029.

Comments Due: 5 p.m. ET 10/3/12.

Docket Numbers: ER12-2314-000.

Applicants: Spinning Spur Wind LLC.

Description: Supplemental Information of Spinning Spur Wind, LLC.

Filed Date: 9/12/12.

Accession Number: 20120912-5100.

Comments Due: 5 p.m. ET 9/26/12.

Docket Numbers: ER12-2442-001.

Applicants: PJM Interconnection, L.L.C.

Description: Errata to Original Service Agreement No. 3381—Docket No. ER12-2442-000 to be effective 7/10/2012.

Filed Date: 9/12/12.

Accession Number: 20120912-5092.

Comments Due: 5 p.m. ET 10/3/12.

Docket Numbers: ER12-2615-000.

Applicants: Midwest Independent Transmission System Operator, Inc., MidAmerican Energy Company.

Description: SA 2475 MidAmerican-Modern Hydro WDS to be effective 6/26/2012.

Filed Date: 9/12/12.

Accession Number: 20120912-5028.

Comments Due: 5 p.m. ET 10/3/12.

Docket Numbers: ER12-2616-000.

Applicants: PJM Interconnection, L.L.C.

Description: Ministerial Clean-Up Filing re OATT Section 230.3 due to Overlapping Filings to be effective 7/18/2012.

Filed Date: 9/12/12.

Accession Number: 20120912-5046.

Comments Due: 5 p.m. ET 10/3/12.

Docket Numbers: ER12-2616-001.

Applicants: PJM Interconnection, L.L.C.

Description: Errata to Transmittal Letter re Ministerial Clean-Up Filing of OATT Sec 230.3 to be effective 7/18/2012.

Filed Date: 9/12/12.

Accession Number: 20120912-5059.

Comments Due: 5 p.m. ET 10/3/12.

Docket Numbers: ER12-2617-000.

Applicants: Midwest Independent Transmission System Operator, Inc.

Description: SA 2431 Glacial Ridge-GRE G549 GIA to be effective 9/13/2012.

Filed Date: 9/12/12.

Accession Number: 20120912-5053.

Comments Due: 5 p.m. ET 10/3/12.

Take notice that the Commission received the following electric securities filings:

Docket Numbers: ES12-51-000.

Applicants: MidAmerican Energy Company.

Description: Amendment to MidAmerican Energy Company's Application.

Filed Date: 9/11/12.

Accession Number: 20120911-5000.

Comments Due: 5 p.m. ET 9/21/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 12, 2012.
Nathaniel J. Davis, Sr.,
Deputy Secretary.

[FR Doc. 2012-23046 Filed 9-18-12; 8:45 am]

BILLING CODE 6717-01-P